UNIFIED CARRIER REGISTRATION PLAN

Sunshine Act Meetings

TIME AND DATE: November 9, 2023, 12:00 p.m. to 3:00 p.m., Eastern time.

PLACE: This meeting will be accessible via conference call and via Zoom Meeting and Screenshare. Any interested person may call (i) 1-929-205-6099 (US Toll) or 1-669-900-6833 (US Toll), Meeting ID: 996 3685 6347, to listen and participate in this meeting. The website to participate via Zoom Meeting and Screenshare is https://kellen.zoom.us/meeting/register/tJ0rdO-gqz0pHtM9bvWIOSSxzfFv3NAVMbMt.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Subcommittee Minutes From the August 10, 2023 Meeting—UCR Audit Subcommittee Chair

For Discussion and Possible Subcommittee Action

Draft minutes from the August 10, 2023, Subcommittee meeting via teleconference will be reviewed. The Subcommittee will consider action to approve.

V. Discuss Options To Replace the Retreat Audit Program With a Program That Relies on the NRS Roadside Inspection Data—UCR Audit Subcommittee Chair, UCR Audit Subcommittee Vice-Chair, DSL Transportation Representative, and Seikosoft Representative

For Discussion and Possible Subcommittee Action

The UCR Audit Subcommittee Chair, UCR Audit Subcommittee Vice-Chair, DSL Transportation Representative, and Seikosoft Representative will lead a discussion on options to replace the Retreat Audit Program currently utilized by the States with an automated roadside inspection data driven audit for non-IRP and IRP plated commercial motor vehicles (CMVs) and the motor carriers operating this type of registered equipment. The Subcommittee may take action to recommend to the Board a modification to the current retreat audit program to one that relies on NRS roadside inspection data.

VI. Announcement of the Vice-Chair Position for the Audit Subcommittee—UCR Audit Subcommittee Chair and UCR Audit Subcommittee Vice-Chair

For Discussion and Possible Subcommittee Action

The UCR Audit Subcommittee Chair and UCR Audit Subcommittee Vice-Chair will announce the Subcommittee member receiving the most votes for the position of Vice-Chair of the Audit Subcommittee and address questions. The Subcommittee may take action to recommend that the UCR Board Chair appoint the Subcommittee member receiving the most votes to the position of Vice-Chair of the Audit Subcommittee.

VII. General Discussion on a Policy To Close a Participating and Non-Participating Focused Anomaly Review (FAR)—UCR Audit Subcommittee Chair, UCR Audit Subcommittee Vice-Chair, and DSL Transportation Representative

For Discussion and Possible Subcommittee Action

The UCR Audit Subcommittee Chair, UCR Audit Subcommittee Vice-Chair, and DSL Transportation Representative will lead a discussion on required steps to close both participating and non-participating state FARs. The Subcommittee may take action to recommend to the Board a required policy for the closing of FARs from participating and non-participating states.

VIII. General Discussion of Hot Shot Auto Transporters and the Negative Impact They Have on the UCR and Safety—UCR Audit Subcommittee Chair, UCR Audit Subcommittee Vice-Chair, and DSL Transportation Representative

The UCR Audit Subcommittee Chair, UCR Audit Subcommittee Vice-Chair, and DSL Transportation Representative will lead a discussion on options to address the potential underpayment of hot shot transporters.

IX. 2021 UCR Financial Audit Update—UCR Executive Director and Kellen Representative

The UCR Executive Director and Kellen Representative will provide an update on the 2021 UCR financial audit conducted by Warren Averett.

X. Update on the Quarterly Question and Answer Session for State Auditors—UCR Audit Subcommittee Chair, UCR Audit Subcommittee Vice-Chair, and UCR Executive Director

The UCR Audit Subcommittee Chair, UCR Audit Subcommittee Vice-Chair and UCR Executive Director will lead discussion of possible future items for discussion for the quarterly question and answer session for state auditors, and also its overall value and continuation.

XI. Other Business—UCR Audit Subcommittee Chair

The UCR Audit Subcommittee Chair will call for any other items Subcommittee members would like to discuss.

XII. Adjournment—UCR Audit Subcommittee Chair

The UCR Audit Subcommittee Chair will adjourn the meeting.

The agenda will be available no later than 5:00 p.m. Eastern time, November 1, 2023 at: https://plan.ucr.gov.

Contact Person For More Information: Elizabeth Leaman, Chair, Unified Carrier Registration Plan Board of Directors, (617) 305-3783, eleaman@board.ucr.gov.

Alex B. Leath,
Chief Legal Officer, Unified Carrier Registration Plan.

[FR Doc. 2023-24454 Filed 11-1-23; 4:15 pm]

BILLING CODE 4910-YL-P